DEPARTMENT OF HEALTH AND HUMAN SERVICES

Centers for Disease Control and Prevention

[60Day-02-09]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404) 639-7090.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Send comments to Anne O'Connor, CDC Assistant Reports Clearance Officer, 1600 Clifton Road, MS-D24, Atlanta, GA 30333. Written comments should be received within 60 days of this notice.

Proposed Project

Radiation Dose Reconstruction—NEW—The National Institute for Occupational Safety and Health (NIOSH), Centers for Disease Control and Prevention (CDC), Department of Health and Human Services (DHHS). On October 30, 2000, the Energy Employees Occupational Illness Compensation Program Act of 2000 (Public Law 106-398) was enacted. This Act established a federal compensation program for employees of the Department of Energy (DOE) or certain of its contractors, subcontractors and vendors, who have suffered cancers and other designated illnesses as a result of exposures sustained in the production and testing of nuclear weapons.

Executive Order 13179 was issued on December 7, 2000; it delegated authorities assigned to “the President” under the Act to the Departments of Labor, Health and Human Services, Energy, and Justice. The Department of Health and Human Services (DHHS) was delegated the responsibility of establishing methods for estimating radiation doses received by eligible claimants with cancer applying for compensation. NIOSH is to apply these methods to estimate the radiation doses of such individuals applying for compensation.

In performance of its dose reconstruction responsibilities under the Act, NIOSH will interview claimants (or their survivors) individually and provide them with the opportunity, through a structured interview, to assist NIOSH in documenting the work history of the employee (characterizing the actual work tasks performed), identifying incidents that may have resulted in undocumented radiation exposures, characterizing radiologic protection and monitoring practices, and identifying co-workers and other witnesses as may be necessary to confirm undocumented information. In this process, NIOSH will use a computer assisted telephone interview (CATI) system, which will allow interviews to be conducted more efficiently and quickly than would be the case with a paper-based interview instrument.

NIOSH will use the data collected in this process to complete an individual dose reconstruction that accounts as fully as possible for all possible radiation dose incurred by the employee in the line of duty for DOE nuclear weapons production programs. After dose reconstruction, NIOSH will also perform a brief final interview with the claimant, to explain the results and to allow the claimant to confirm or question the record NIOSH has compiled. This will also be the final opportunity for the claimant to supplement the dose reconstruction record.

At the conclusion of the dose reconstruction process, the claimant will need to submit a form (OCAS-1) to confirm that all information available to the claimant has been provided. The form will notify the claimant that signing the form allows NIOSH to forward a dose reconstruction report to DOL and to the claimant, and closes the record on data used for the dose reconstruction. The dose reconstruction results will be supplied to the claimant and to the DOL, which will factor them into its determination whether the claimant is eligible for compensation under the Act.

On October 31, 2001, the Office of Management and Budget approved DHHS' request for emergency Paperwork Reduction Act clearance, so that NIOSH could begin its dose reconstruction duties under the Act. That emergency clearance expires on April 30, 2002. This notice pertains to DHHS' request for normal Paperwork Reduction Act clearance to permit NIOSH to continue conducting dose reconstruction activities after April 30, 2002. There is no cost to respondents.

Respondents | Number of respondents | Number of responses | Average burden per response (in hrs) | Total burden (in hrs)
Initial interview | 22,500 | 1 | 1 | 22,500
Conclusion form | 22,500 | 1 | 5/60 | 1,875
Total |  |  |  | 24,375

Dated: November 16, 2001.
Nancy E. Cheal,
Acting Associate Director for Policy, Planning and Evaluation, Centers for Disease Control and Prevention.

[FR Doc. 01-29336 Filed 11-23-01; 8:45 am]

BILLING CODE 4163-18-P